DEPARTMENT OF THE INTERIOR

Bureau of Land Management

[20X LLUT912000 L13140000.PP0000]

Notice of Public Meeting, Utah Resource Advisory Council, Utah

AGENCY: Bureau of Land Management, Interior.

ACTION: Notice of Public Meeting.

SUMMARY: In accordance with the Federal Land Policy and Management Act, the Federal Advisory Committee Act, and the Federal Lands Recreation Enhancement Act, the U.S. Department of the Interior, Bureau of Land Management's (BLM) Utah Resource Advisory Council (RAC) will meet as indicated below.

DATES: The Utah RAC is scheduled to meet on June 10, 2020, from 8 a.m. to 3:30 p.m. A teleconference may substitute an in-person meeting if public health restrictions are in effect.

ADDRESSES: The meeting will be held at the Richfield Interagency Fire Center, 2031 South Industrial Park Road, Richfield, Utah 84701. Written comments to address the RAC may be sent to the BLM Utah State Office, 440 West 200 South, Suite 500, Salt Lake City, Utah 84101, or via email to BLM_UT_External_Affairs@blm.gov with the subject line “Utah RAC Meeting.”

FOR FURTHER INFORMATION CONTACT: Lola Bird, Public Affairs Specialist, BLM Utah State Office, 440 West 200 South, Suite 500, Salt Lake City, Utah 84101; phone (801) 539-4033; or email lbird@blm.gov. Persons who use a telecommunications device for the deaf (TDD) may call the Federal Relay Service (FRS) at 1 (800) 877-8339 to leave a message or question for the above individual. The FRS is available 24 hours a day, seven days a week. Replies are provided during normal business hours.

SUPPLEMENTARY INFORMATION: The Utah RAC advises the Secretary of the Interior, through the BLM, on a variety of public lands issues. Agenda topics will include BLM Utah priorities, Desolation River Program and Price Field Office Campground Business Plans, wild horse and burro program update, BLM regulations update, Washington County planning updates, a tour of the Richfield Interagency Fire Center, and other issues as appropriate. The final agenda and meeting information will be posted on the Utah RAC website 30 days before the meeting at https://www.blm.gov/get-involved/resource-advisory-council/near-you/utah/RAC.

The meeting is open to the public; however, transportation, lodging, and meals are the responsibility of the participating individuals. The RAC will offer a 30-minute public comment period. Depending on the number of people wishing to comment and the time available, the time for individual comments may be limited. Written comments may also be sent to the BLM Utah State Office at the address listed in the ADDRESSES section of this notice. All comments received will be provided to the Utah RAC. Before including your address, phone number, email address, or other personal identifying information in your comments, please be aware that your entire comment, including your personal identifying information, may be made publicly available at any time. While you can ask us in your comment to withhold your personal identifying information from public review, we cannot guarantee that we will be able to do so. Detailed meeting minutes for the Utah RAC meeting will be maintained in the BLM Utah State Office and will be available for public inspection and reproduction during regular business hours within ninety (90) days following the meeting. Notes will also be posted to the Utah RAC website.

Authority: 43 CFR 1784.4-2.

Anita Bilbao,
Acting State Director.

[FR Doc. 2020-08781 Filed 4-23-20; 8:45 am]

BILLING CODE 4310-DQ-P